DEPARTMENT OF HEALTH AND HUMAN SERVICES

Substance Abuse and Mental Health Services Administration

Agency Information Collection Activities: Proposed Collection; Comment Request

In compliance with section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: National Evaluation of the Protection and Advocacy for Individuals with Mental Illness (PAIMI) Program—NEW

In recognition that systematic evaluation of this and other government programs are an expected practice under both the Government Performance and Results Act (GPRA) and the Office of Management and Budget's Program Assessment and Rating Tool (PART), the Substance Abuse and Mental Health Services Administration's Center for Mental Health Services (CMHS) will conduct an independent evaluation of the PAIMI Program. CMHS will employ information that is routinely collected under existing program requirements and is also expected to collect new, additional data that are also necessary for the conduct of the evaluation. [On January 1, each eligible State protection and advocacy (P&A) system is required to transmit to the Secretary and head of the State Mental Health Agency, in which the system is located, a report describing its activities, accomplishments, and expenditures during the most recently completed fiscal year. None of the data collection activities described above will be redundant with these existing reporting requirements.] The evaluation plan includes gathering information about the PAIMI program from persons with different perspectives. Accordingly, CMHS proposes to proceed with the following new data collection activities:

(1) Survey interviews with the Executive Directors of each of the Protection and Advocacy Grantees, as well as other staff whom they may ask to join them in these interviews to include:

a. Characteristics and shared functions between the P&A Governing Board and the PAIMI Advisory Council

b. Processes to establish PAIMI goals and priorities

c. Federal support of the PAIMI program

d. Federal oversight of the PAIMI program

e. Organization and staffing of PAIMI responsibilities within the P&A

f. Procedures for quality management

g. Background of respondent

(2) Surveys of and focus groups with persons who receive services from PAIMI programs to include:

a. Access to PAIMI services

b. Quality of services provided to clients

c. Satisfaction with services

d. Background of respondent

(3) Surveys of the Chairs of the Advisory Councils of each PAIMI Grantee to include:

a. Characteristics and shared functions between the P&A Governing Board and the PAIMI Advisory Council

b. Processes to establish PAIMI goals and priorities and assessment of those priorities

c. Organization and staffing of PAIMI responsibilities within the P&A

d. Quality of services provided to clients

e. Background of respondent

(4) Surveys of the Program Directors of State Mental Health Authorities to include:

a. Types of communication between the State Mental Health Authority and the PAIMI program

b. Processes to establish PAIMI goals and priorities and assessment of those priorities

c. Relationship between the State Mental Health Authority and the PAIMI program

d. Role of the PAIMI program in the mental health advocacy community

e. Background of respondent

(5) Survey of directors of other organizations who are likely to be familiar with or collaborate in PAIMI activities in each State; including family and consumer groups and other mental health advocacy organizations to include:

a. Types of interaction between the State Mental Health Authority and the PAIMI program.

b. Processes to establish PAIMI goals and priorities and assessment of those priorities

c. Relationship between the organization and the PAIMI program

d. Access to and quality of services provided to PAIMI recipients

e. Role of the PAIMI program in the mental health advocacy community

f. Background of respondent

The PAIMI program has never undergone an independent evaluation. The approach being used is to conduct survey interviews with a cross-section of five primary Stakeholder groups connected to the PAIMI program, including Program Directors/staff, Clients/Recipients of services, PAIMI Advisory Council Chairs, Directors of State Mental Health Authorities, and Directors of Other Mental Health Advocacy Organizations in an effort to obtain a representative sample of viewpoints about the PAIMI program. The surveys have been developed to include questions relevant to each of the respective Stakeholder groups named above and range from 22 questions to as many as 88 questions. Depending on the Stakeholder group, respondent surveys are expected to take from thirty minutes up to two hours to complete.

The burden estimate for conducting the surveys under the evaluation plan for the PAIMI Program is as follows:

Surveys | Number of respondents | Responses per respondent | Burden per response (hrs.) | Total burden (hrs.)
P&A Executive Director Survey | 57 | 1 | 2 | 114
PAIMI Client Survey | 100 | 1 | 1.5 | 150
PAIMI Advisory Council Chair Survey | 57 | 1 | 1 | 57
State Mental Health Program Directors Survey | 57 | 1 | .5 | 28.5
Directors of Other Mental Health Advocacy Organizations Survey | 171 | 1 | .5 | 85.5
Totals | 442 |  |  | 425

Send comments to Summer King, SAMHSA Reports Clearance Officer, Room 71-1044, One Choke Cherry Road, Rockville, MD 20857. Written comments should be received within 60 days of this notice.

Dated: January 20, 2006.
Anna Marsh,
Executive Officer, SAMHSA.

[FR Doc. E6-964 Filed 1-25-06; 8:45 am]

BILLING CODE 4162-20-P